DEPARTMENT OF AGRICULTURE

Forest Service

Payette National Forest, Idaho, Golden Hand #3 and #4 Lode Mining Claims, Plan of Operations

AGENCY: Forest Service, USDA.

ACTION: Notice of intent to prepare an environmental impact statement.

SUMMARY: The USDA Forest Service will prepare an environmental impact statement (EIS) for the proposed Plan of Operations (POO) for the Golden Hand #3 and #4 lode mining claims in the Frank Church—River of No Return (FC-RONR) Wilderness on the Krassel Ranger District, Payette National Forest. The purpose of the POO is to allow for mineral development of the claims. The EIS will disclose the environmental effects of the POO submitted by American Independence Mines and Minerals, Inc. The Forest now invites comments on the scope of the analysis and the issues to address.

DATES: Comments must be received by May 27, 2002.

ADDRESSES: Send written comments to Ana Egnew, Land Management Specialist, Krassel Ranger District, Payette National Forest, PO Box 1026, McCall, Idaho 83638.

FOR FURTHER INFORMATION CONTACT: Ana Egnew at the above address, or e-mail: aeegnew@fs.fed.us.

SUPPLEMENTARY INFORMATION: American Independence Mines and Minerals, Inc. has proposed a Plan of Operation (POO) to allow for mineral development of the Golden Hand #3 and #4 mining claims. The mining claims are located in the FC-RONR Wilderness, approximately 50 miles northeast of McCall, Idaho in section 26, T22N, R9E, Boise Meridian. The claims encompass 20 acres each adjacent to Coin Creek, a tributary of Beaver Creek, which flows into Big Creek, a tributary of the Salmon River.

Proposed Action

Access to the claims would be on Forest Service (FS) roads to the FC-RONR Wilderness boundary at Pueblo Summit, north of the town of Edwardsburg. Proposed access would then require vehicle passage for approximately 2.7 miles past the wilderness boundary on FS trail #13. Within the boundary is a roadbed that existed before creation of the wilderness. The roadbed was converted to use as a trail upon establishment of the wilderness. Vehicle access would require clearing slough, downed trees, and other obstacles to maintain a safe width for equipment transport.

The proposed operation would construct approximately 2000 feet of new road on Golden Hand lode mining claim #3 and reconstruct approximately 1700 feet of preexisting roadbed on Golden Hand lode mining claim #4. These roads would access 31 drill locations and 5 trench locations. Approximately 750 feet of trench (5 feet wide and 5 feet deep) would be excavated. Production development work would also be conducted underground from existing mine openings (adits).

Equipment proposed for use in the mining operation would include pickup trucks, a tandem axle flatbed truck, a 14 cubic yard tandem axle ore truck, small truck or track mounted drill rigs, a backhoe/loader, a bulldozer, a road grader, an air compressor, chainsaws, small underground mining machinery, a generator, and hand tools.

Extracted ore would be hauled approximately 12 miles to an existing mill site near the town of Edwardsburg for bulk testing. Waste rock would be placed on existing dumps at the mine site. Fuel would be transported in sealed containers and stored in a leak proof containment. Explosives would be transported in certified, licensed, and insured vehicles, and would be stored in existing or portable magazines.

Responsible Official

The responsible official is the Forest Supervisor of the Payette National Forest.

Nature of Decision To Be Made

The nature of the Forest Service decision to be made in response to the POO submitted by American Independence Mines and Minerals, Inc. is: (1) Approve the project as proposed, or (2) Notify the operator of changes or additions to the POO necessary to minimize or eliminate adverse environmental impacts from mineral activities on National Forest System (NFS) lands, as required by Forest Service regulations (36 CFR Part 228A).

The Payette National Forest Supervisor has determined that preparation of the EIS is required for approval of the POO under Forest Service regulations governing locatable mineral activities on National Forest System Lands (36 CFR part 228A) and CEQ regulations implementing the National Environmental Policy Act (40 CFR parts 1501-1508).

Preliminary Issues

Preliminary issues identified by the Forest Service interdisciplinary team include use of mechanized equipment in wilderness, protection of wilderness character, effects to threatened and endangered species, and effects to aquatic species and water quality.

Public Participation

Public participation will be important at several points during the analysis, particularly during scoping of issues and review of the draft environmental impact statement (DEIS). This notice of intent initiates the scoping process, which guides the development of the EIS. The scoping process will identify potential issues and issues to be analyzed in detail, and will lead to the development of alternatives to the proposal.

Comments received in response to this notice, including the names and addresses of those who comment, will be part of the project record and available for public review.

The second major opportunity for public input is with the DEIS. The DEIS will analyze a range of alternatives to the proposed action, including the no-action alternative. The DEIS is expected to be filed with the Environmental Protection Agency (EPA) and to be available for public review in January 2003. EPA will then publish a notice of availability of the DEIS in the Federal Register. Public comments will be invited. The comment period on the DEIS will be 45 days from the date the EPA publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). In addition, environmental objections that could be raised at the draft environmental impact statement stage but that are not raised until after completion of the final environmental impact statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues raised by the proposed action, comments on the DEIS should be as specified as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act 40 CFR 1503.3 in addressing these points.

In the Final EIS (FEIS) the Forest Service will respond to comments received (40 CFR 1503.4). The responsible official will consider the comments, responses, and environmental consequences addressed in the FEIS, which is expected to be completed in May 2003, along with applicable laws, regulations, and policies in making the final decision regarding this proposal. The responsible official will document the decision and reasons for it in the Record of Decision. That decision will be subject to appeal under 36 CFR 215.

Dated: April 11, 2002.
Robert S. Giles,
Acting Forest Supervisor.

[FR Doc. 02-9610 Filed 4-18-02; 8:45 am]

BILLING CODE 3410-11-M